DEPARTMENT OF ENERGY

Office of Energy Efficiency and Renewable Energy

Building Energy Standards Program: Determinations Regarding Energy Efficiency Improvements in the 1998 and the 2000 International Energy Conservation Codes for Residential Buildings

AGENCY: Office of Energy Efficiency and Renewable Energy, Department of Energy (DOE).

ACTION: Notice.

SUMMARY: The Department of Energy (DOE or Department) today determines that the 1998 version of the International Code Council (ICC) International Energy Conservation Code (IECC) would achieve greater energy efficiency in low-rise residential buildings than the 1995 version of the Council of American Building Officials Model Energy Code ( MEC). Also, DOE determines that the 2000 version of the IECC would achieve greater energy efficiency than the 1998 IECC. As a result of these determinations, in accordance with the provisions of the Energy Policy Act of 1992, States are required to file certification statements to DOE about how their own residential building codes compare to the IECC codes regarding energy efficiency. This Notice provides guidance to States on how the codes have changed from previous versions, how to submit certifications, and how to request extensions of the deadline to submit certifications.

DATES: Certifications or requests for extensions of deadlines with regard to the 1998 and the 2000 International Energy Conservation Codes are due at DOE on or before January 10, 2003.

ADDRESSES: Certifications or requests for extensions of deadlines should be directed to the Assistant Secretary for Energy Efficiency and Renewable Energy, Office of Building Research and Standards, Mail Station EE-41, 1000 Independence Avenue, SW., Washington, DC 20585-0121. Envelopes or packages should be labeled, “State Certification of Residential Building Codes Regarding Energy Efficiency”.

FOR FURTHER INFORMATION CONTACT: Christopher Early, U.S. Department of Energy, Office of Energy Efficiency and Renewable Energy, Forrestal Building, Mail Station EE-41, 1000 Independence Avenue, SW., Washington, DC 20585-0121, Phone: 202-586-0514, FAX: 202-586-4617.

SUPPLEMENTARY INFORMATION:

I. Introduction

A. Statutory Requirements

B. Background

C. DOE's Determination Statement

II. Discussion of Changes in the 1998 IECC compared with the 1995 MEC

A. Major Changes in the 1998 IECC that Improve Energy Efficiency

1. Solar Heat Gain Coefficient for Glazed Products in Certain Climates

2. U-Factor for Replacement Windows

B. Minor Changes in the 1998 IECC that Improve Energy Efficiency

1. Air Infiltration for Manufactured Doors and Windows

2. Heat Traps for Water Heaters

3. Use of Compliance “Tools”

4. Tables for Compliance by Prescriptive Specification

5. Insulation of Skylight Shafts

6. Access Openings in Floors, Walls, and Ceilings

C. Changes in the 1998 IECC that Decrease Energy Efficiency

1. Prescriptive Thermal Envelope Criteria for Certain Additions

2. Revised Default U-factors for Glazed Products

D. Conclusion

III. Discussion of Changes in the 2000 IECC compared with the 1998 IECC

A. Changes in the 2000 IECC that Improve Energy Efficiency and Compliance with the Code

1. Protection of Above-grade Foam Insulation

2. Solar Heat Gain Coefficient for Additions and Replacement Windows

3. Construction Documents

4. Definition of Roofs and Skylights

5. Treatment of Partially Glazed Doors

6. Use of Prescriptive Specification Compliance Tables with Steel-Framed and Masonry Walls

B. Changes in the 2000 IECC that Decrease Energy Efficiency

1. Increase in U-value for Replacement Skylights

2. Simplified IECC Chapter for Some Buildings

C. Conclusion

IV. Filing Certification Statements with DOE

A. State Determination

B. State Certifications to DOE

C. State Determination Not to Revise Its Residential Building Code

D. Requests for Extensions to Certify

I. Introduction

A. Statutory Requirements

Title III of the Energy Conservation and Production Act, as amended (ECPA), establishes requirements for the Building Energy Standards Program. 42 U.S.C. 6831-6837. ECPA, as amended, provides that when the 1992 Model Energy Code, or any successor to that code, is revised, the Secretary of the Department of Energy must determine, not later than 12 months after the revision, whether the revised code would improve energy efficiency in residential buildings and must publish notice of the determination in the Federal Register. 42 U.S.C. 6833 (a)(5)(A). If the Secretary determines that the revision would improve energy efficiency then, not later than two years after the date of the publication of the affirmative determination, each State is required to certify that it has compared its residential building code regarding energy efficiency to the revised code and make a determination whether it is appropriate to revise its code to meet or exceed the provisions of the successor code. 42 U.S.C. 6833(a)(5)(B). State determinations are to be made: (1) After public notice and hearing; (2) in writing; (3) based upon findings included in such determination and upon evidence presented at the hearing; and (4) available to the public. 42 U.S.C. 6833(a)(5)(C). In addition, if a State determines that it is not appropriate to revise its residential building code, the State is required to submit to the Secretary, in writing, the reasons, which are to be made available to the public. 42 U.S.C. 6833(a)(5)(C).

B. Background

A previous Federal Register notice, 59 FR 36173, July 15,1994, announced the Secretary's determination that the 1993 MEC is an improvement over the 1992 MEC. Another Federal Register notice, 61 FR 64727, December 6, 1996, announced the Secretary's determination that the 1995 MEC is an improvement over the 1993 MEC.

The Council of American Building Officials (CABO) has published the MEC since its first printing in 1983 through 1995. CABO was established in 1972 to provide a uniform approach and focus on certain building code matters for the three regional model code organizations in the United States. In 1994, the three regional organizations agreed to the formation of the International Code Council, or ICC. ICC's main task is to develop and maintain a single set of comprehensive and coordinated building codes for the United States, and potentially other nations, to replace regional codes.

CABO transferred all rights and responsibilities of the MEC to the ICC, to better coordinate MEC requirements with the other international codes and to recognize the MEC's national scope. The ICC renamed the MEC as the International Energy Conservation Code (IECC) and first published it in 1998. The 1998 IECC contains all of the text of the 1995 MEC, plus all revisions approved for inclusion in the MEC during the 1995, 1996, and 1997 code maintenance cycles. Similarly, the 2000 IECC contains all of the text of the 1998 IECC, plus all revisions approved for inclusion in the 2000 IECC during the 1998 and 1999 code maintenance cycles. Therefore, the Department has determined that the 1998 IECC is the successor to the 1995 MEC and the 2000 IECC is the successor to the 1998 IECC and both should be the subject of a Secretarial determination as required by ECPA, as amended. Today's notice provides the Secretary's determination on the 1998 IECC and the 2000 IECC.

C. DOE's Determination Statement

There are many differences between the 1995 MEC and the 1998 IECC that affect energy efficiency. Some changes directly improve energy efficiency. Many other changes to the 1998 IECC make the code simpler and easier for designers, builders, and code compliance officials to understand and use. Since the Department feels that buildings are more likely to contain all the energy efficiency features required by the code when the code is easy to use and interpret, these code changes tend to promote energy efficiency. Two changes are negative: they will not improve energy efficiency. Nevertheless, the beneficial changes in the 1998 IECC outweigh the negative impacts. Therefore, DOE has concluded that the 1998 IECC improves energy efficiency over the 1995 MEC in low-rise residential buildings.

There are also differences between the 1998 IECC and the 2000 IECC that affect energy efficiency. Some changes improve energy efficiency. Two changes have a small negative impact. Thus, DOE has concluded that the 2000 IECC will improve energy efficiency over the 1998 IECC.

II. Discussion of Changes in the 1998 IECC Compared with the 1995 MEC

A. Major Changes in the 1998 IECC That Improve Energy Efficiency

1. Solar Heat Gain Coefficient for Glazed Products in Certain Climates

Solar Heat Gain Coefficient (SHGC) is a measure of the ability of a glazed product, such as a window, to screen out incoming solar radiation by virtue of the type of glass used in the window. Glass with a low SHGC prevents much of the incident solar radiation from entering the residences to elevate indoor temperatures. Solar heating of indoor environments is a particular problem in southern regions of the United States, increasing cooling loads and energy consumption.

The 1995 MEC has no requirements for a specific SHGC for any glazed product. The 1998 IECC limits SHGC to a maximum of 0.4 for those residential buildings located in climates having fewer than 3500 annual Heating Degree Days (HDD). Setting the maximum SHGC for glazing products to 0.4 in climates below 3500 HDD recognizes that low SHGC glazing is an effective cooling load reduction strategy in those parts of the country needing significant air conditioning. Bureau of Census data from 1992 indicates that approximately 40% of all new housing starts were in the 0-3500 HDD climate region. Therefore, this one change has the potential to positively impact a substantial portion of the new housing market.

2. U-Factor for Replacement Windows

The 1998 IECC includes a new table of prescriptive criteria for insulation (R-values) and fenestration (U-factors) for certain additions and window replacements to single family residential buildings. The U-factors for replacement windows improve energy efficiency. U-factors describe heat gain and loss through windows. More stringent U-factors are required in colder climates to prevent heat loss.

Under the 1998 IECC, when a window in an existing building is replaced in its entirety, including frame, seal, and glazing, the replacement unit must meet the U-factor requirement. The 1995 MEC does not address the subject of replacement windows in residential structures, thus allowing any window to be installed, irrespective of its U-factor. While the 1995 MEC does not preclude the possibility of installing a replacement window with good thermal performance (low U-factor), the 1998 IECC effectively assures that a reasonably performing window will be installed in existing buildings.

Because this new prescriptive criteria will reduce conductive heat losses from replacement windows, it will improve energy efficiency in existing residential buildings. The potential for energy savings from replacement windows is substantial. Recent residential housing surveys performed by DOE indicate that approximately 3.5 million American households replace at least some of their windows each year.

B. Minor Changes in the 1998 IECC That Improve Energy Efficiency

1. Air Infiltration for Manufactured Door and Windows

The MEC and the IECC both require that manufactured doors and windows be limited in their rate of air infiltration in accordance with the industry's manufacturing standards. The requirement applies to the unit as it comes from the factory, and not to potential infiltration around the frame of the unit when actually installed.

The 1998 IECC lowers allowable rates of air infiltration compared to the 1995 MEC. Since lower air infiltration decreases heating and cooling energy consumption, this change improves energy efficiency in residential construction.

2. Heat Traps for Water Heaters

The 1995 MEC has no requirements for heat traps, while the 1998 IECC does. A heat trap is a prefabricated device installed in the water heater inlet/outlet pipe at the time of manufacture, or an “S”-shaped pipe trap fabricated during installation. It prevents cooling of hot water from “thermosyphoning” effects. Thermosyphoning occurs when a water heater is installed at a lower elevation (in a basement, for example) than the distribution piping of the residence. Water heated in the tank rises, due to increased buoyancy, into the distribution piping. The distribution piping has a large, often uninsulated surface area from which to radiate heat to the surrounding air and surfaces. Thus, the hot water cools before it is used, wasting energy. Heat traps help to prevent this unwanted heat loss by preventing hot water from rising above the horizontal level of the top of the hot water heater. This code change improves energy efficiency slightly.

3. Use of Compliance “Tools”

Over the last several years, various aids for demonstrating compliance with some of the MEC requirements have been developed by several organizations, including DOE. These compliance aids include workbooks, technical manuals, worksheets, forms, and computer software. The aids provide a standardized interpretation of the code requirements. Some of the tools have become the primary means for demonstrating compliance with the MEC because of their simplicity, ease of use, and standardized approach.

The 1995 MEC is silent on the use of specific code compliance tools. The 1998 IECC includes the following provision:

Compliance with specific provisions of this code shall be determined through the use of computer software, worksheets, compliance manuals, and other similar materials when they have been approved by the building official as meeting the intent of this code.

Thus the 1998 IECC explicitly recognizes the availability and use of various compliance tools. “Approved by the building official” means that the official has accepted the tool(s) as being adequate for demonstrating compliance with the code. The Department feels that inclusion in the 1998 IECC of language to encourage use of compliance tools promotes enforcement of the code, resulting in improved energy efficiency in buildings.

4. Tables for Compliance by Prescriptive Specification

The 1995 MEC has criteria for the thermal performance of the roofs, ceilings, walls, floors, foundations, and other construction elements which enclose the heated or cooled spaces of residential buildings. There are several methods for determining the insulation requirements and thermal performance of windows, doors, and skylights that will meet the basic performance criteria. Building designers must understand how to apply the compliance methods to arrive at the accurate R-values and U-factors. An incorrect interpretation and application of a MEC compliance path could result in a building that is less efficient than the MEC actually requires.

The IECC provides several new tables of required R-values for installed insulation and U-factors for glazing assembles (windows and skylights). The tables are presented as a function of residential building type (single-family dwelling, or multi-family dwelling building less than four stories in height), location by heating degree day, and window area as a percentage of the overall wall area. A set of rules for interpreting and applying the tables are also included in the IECC. This prescriptive compliance path provides a simple and technically accurate solution for identifying the critical R-values and U-factors.

The new tables add no new requirements and are not mandatory but they are a simpler option. To the extent that the other methods have a greater potential for misinterpretation and miscalculation, the availability of the prescriptive specification tables will help to assure that floors, ceilings, walls, and windows are properly designed and meet energy efficiency requirements under the code, thus promoting energy efficiency.

5. Insulation of Skylight Shafts

Sometimes skylights are installed in sloped roofs and separated from the living space by an attic space and flat ceiling. To transfer the light to the living space, an enclosed shaft, either vertical or sloped, is built between the skylight frame and the horizontal ceiling surface. These shafts are often overlooked entirely when evaluating thermal performance of the building. Even when recognized, the question remains whether the shaft should be treated as a vertical (or near vertical) wall, which has one insulation requirement, or as part of the ceiling assembly, which has a different insulation requirement.

In principle, both the 1995 MEC and the 1998 IECC require that the surfaces of the skylight shaft be insulated, because the shaft separates the conditioned living space from the unconditioned space of the attic. The 1995 MEC, however, does not explicitly mention skylight shafts. The 1998 IECC specifically imposes the requirement to insulate those skylight shafts that are over 12 inches deep. The IECC will therefore help to assure that this construction feature is not overlooked and is adequately insulated.

6. Access Openings in Floors, Walls, and Ceilings

In both the MEC and IECC, the floor and wall have to meet an overall thermal performance value. If there are several different types of floors in one residential building, the area-weighted average of each floor's thermal performance must comply with the overall performance required by the code.

Houses with crawlspace foundations normally comply with the energy code by insulating the floor between the crawlspace and the conditioned area. Most building codes require an access hatch to get to the under-floor space and the access hatch is often built into the floor. When computing the insulating performance of the entire floor assembly, the 1995 MEC is silent on the subject of access openings. The 1998 IECC specifically states that access doors or hatches are a sub-element of the floor assembly when performing the computation. This will prevent access hatches from being omitted from the calculations. Since access hatches are often uninsulated, their inclusion in insulation calculations will require increased insulation and improve energy efficiency slightly.

C. Changes in the 1998 IECC That Decrease Energy Efficiency

1. Prescriptive Thermal Envelope Criteria for Certain Additions

The 1998 IECC contains a new table of insulation R-values and fenestration U-factors for certain residential additions. It is an alternative compliance path that can be used in place of the other compliance methods in the code. No such table exists in the 1995 MEC. To qualify for the additions table in the 1998 IECC, the addition must be less than 500 square feet in floor area and must have a fenestration area no more than 40% of the gross wall and roof area of the addition. The new table was derived from table 502.2.4(3), “Prescriptive Building Envelope Requirements Type A-1 Residential Buildings, Windows Averaging 15 Percent of Exterior Wall Area.” Houses with more fenestration typically use more energy. For that reason, the code has more stringent energy efficiency requirements for houses with higher ratios of window area to wall area.

Houses with larger areas of fenestration have more stringent standards for windows and insulation in both the 1995 MEC and the 1998 IECC. The new compliance table allows additions with window area up to 40% of exterior wall area to be constructed to the less energy efficient fenestration and insulation code requirements specified for buildings with window area only 15% of exterior wall area.

Although residential construction improvements are a multi-billion-dollar per year industry, no reliable data exists on the number of additions constructed and the amount of glazing installed. It is therefore difficult to estimate the specific impact that application of the IECC additions table would have on energy consumption in the United States. As an example of the possible impact, a 500 square foot addition with a window area equal to 26% of the wall area and complying with the additions table will experience an increase in total heating and cooling loads of 3-8%, depending on the geographic location, compared to an addition which meets the 1995 MEC. The presence of the “additions table” in the 1998 IECC will likely decrease energy efficiency in some residential construction.

2. Revised Default U-factors for Glazed Products

To evaluate whether installed glazed products comply with the overall thermal performance criteria of the MEC or the IECC, glazed products should be tested in accordance with procedures developed by the National Fenestration Rating Council (NFRC). The recognition of the NFRC test procedures for determining U-factor of glazed products first appeared in the 1995 MEC although neither the MEC nor IECC mandates NFRC testing. NFRC testing results in assigning a reliable, accurate U-factor to each glazed product. A high U-factor means a poorly performing product (high heat loss through the window or other glazed assembly); a low U-factor means a well-performing window (low heat loss).

The 1995 MEC contains tables which provide the MEC user with default U-factors that could be used if the glazed product had not actually been tested by using the NFRC procedure. These default tables were revised in the 1998 IECC. Over three-quarters of the revisions are lower U-factors. Effectively, many glazed products are re-graded as better energy performers because the product has a lower U-factor under the 1998 IECC than it had under the 1995 MEC.

The use of revised default U-factors could have a negative impact on energy efficiency. As an example, under the 1995 MEC, window Model ABC (unrated) could have had a default U-factor assigned and been included in the design of a particular residence. Under the 1998 IECC, assigning a lower default U-factor (efficiency “improvement”) to this same window Model ABC in this same design may allow a slight decrease in efficiency in some other portion of the house (for example, reducing insulation in walls). The house would still comply with the 1998 IECC, but use more energy than the same house designed for the 1995 MEC.

We cannot estimate the magnitude and frequency of the negative impacts of using the IECC's revised default values, but there are significant numbers of windows which are still not NFRC-tested. Some manufacturers of inefficient glazed products may opt to withhold their test results (high U-factors) and use the default values instead. Use of these default values, in place of actual NFRC testing and rating of glazed products, may decrease energy efficiency in residential construction.

D. Conclusion

Most of the changes between the 1995 MEC and the 1998 IECC will improve energy efficiency in residential construction and make the code easier to use and interpret. Two changes will not improve energy efficiency but the benefits of the changes in the 1998 IECC outweigh the negative impacts. Therefore, the 1998 IECC improves energy efficiency in low-rise residential buildings.

III. Discussion of Changes in the 2000 IECC Compared with the 1998 IECC

A. Changes in the 2000 IECC That Improve Energy Efficiency and Compliance With the Code

1. Protection of Above-Grade Foam Insulation

The 2000 IECC has a new provision for protection of above-grade foam insulation from deterioration. Rigid foam insulation is often applied to the exterior, exposed surfaces of slab-on-grade foundations, basement walls, and, on rare occasions, crawl space foundations. As used in residential construction, all of these foundation types often extend above the ground. Where the insulating foam is exposed to air it deteriorates from object impacts and chemical deterioration from sun, wind, and water which decreases its insulating ability.

The 2000 IECC requires protection of exposed insulation. While the new language does not mandate a specific material or technique, it does stipulate that the protective material be rigid, opaque, and weather-resistant. When applied, the protective material must cover all of the exposed insulation and extend at least 6 inches below the ground protecting it and keeping it from losing its insulating ability.

2. Solar Heat Gain Coefficient for Additions and Replacement Windows

The 1998 IECC institutes a limitation on the solar heat gain coefficient (SHGC) for glazed products in warm climates, sets maximum allowable U-factors for replacement windows, and provides thermal envelope criteria for certain additions under 500 square feet. The new requirements for additions and replacement windows were placed in a different chapter of the 1998 IECC than the SHGC requirement and so did not absolutely clarify that the SHGC requirement applies to replacement windows and additions. In warm climates replacement glazing and glazing in additions subject to the 1998 IECC could be installed without this important cooling load control feature.

The 2000 IECC has new, specific language that makes it clear that all replacement fenestration and fenestration in additions are subject to the SHGC requirement. This provision ensures energy efficiency improvement in residential buildings and additions in warm climates.

3. Construction Documents

The 2000 IECC clarifies the type of information that must be submitted on construction documents submitted for review with a request for a building permit. Plans must be drawn to scale and may be submitted in an electronic format. The exact location, nature, and extent of the work to be done must be clearly shown. U-factors of doors, windows, and skylights; R-factors of insulation; and U-factors of overall envelope assemblies must be clearly shown. This expanded provision helps inspectors determine IECC compliance at the plan review stage, thereby promoting energy savings.

4. Definition of Roofs and Skylights

The 1998 IECC and its predecessors have never explicitly stated whether a sloped wall is a wall or a roof, or whether a sloped window is a window or a skylight. This is important because walls typically have different insulation requirements from roofs and windows have different thermal requirements from skylights. The 2000 IECC revised the definition of “roof assembly” to include all roof or ceiling assemblies that are sloped less than 60 degrees from the horizontal. The revised definition also provides many more examples of residential construction that typically are considered a roof such as the roof of a bay window and sloped glazing that faces conditioned space. The definition also stipulates that any sloped assembly 60 degrees or greater from the horizontal is to be considered an exterior wall, which has different thermal performance requirements under the code. A skylight is newly defined as any glazed assembly with a slope of less than 60 degrees from the horizontal.

These clarifying definitions ensure that sloped walls and roofs are treated consistently in building energy efficiency calculations for IECC compliance, ensuring that the appropriate insulation requirements are applied.

5. Treatment of Partially Glazed Doors

The 1998 IECC has confusing and conflicting approaches toward treating partially glazed doors when evaluating compliance of wall assemblies. An expanded definition of glazing area in the 2000 IECC is more specific. If the door has a glazed area that is less than 50% of the overall door area then the actual glazed area must be used in compliance calculations. If the door has glazing amounting to more than 50% of the door area, the entire door is considered glazed in the calculations.

The new and revised definitions in the 2000 IECC help building designers and code officials ensure the code is properly applied.

6. Use of Prescriptive Specification Compliance Tables With Steel-Framed and Masonry Walls

Section II.A.2 describes the new tables for compliance by prescriptive specifications that were introduced into the 1998 IECC. The tables were developed for, and can be used only for wood-framed construction. Some other residential construction materials are gaining in popularity, such as steel framing in walls and masonry, concrete, and other high mass materials used in some above-grade load-bearing wall designs.

To extend the utility of the prescriptive tables, the 2000 IECC includes several new tables that address these wall construction techniques. The new tables are based on requirements existing elsewhere in the IECC; consequently, they add no new limitations. They make it easier for people to use the code which improves energy efficiency.

B. Changes in the 2000 IECC that Decrease Energy Efficiency

1. Increase in U-value for Replacement Skylights

The 2000 IECC increased the allowable U-value for replacement skylights from 0.35 and 0.40 (in climate zones with heating degree days greater than 4000) to 0.50. The IECC allows the change for the practical reason that typically even high preforming skylights cannot achieve the lower U-values. Skylights with higher U-values are less energy efficient because they allow heat to escape more easily. The effect of this modification on energy efficiency is relatively small because the U-value change is small. In addition, the change is appropriate since the more stringent requirement cannot be met. Overall, skylight replacements represent a small portion of building construction, thereby minimizing the impact of this change.

2. Simplified IECC Chapter for Some Buildings

Notwithstanding the many improvements made to the residential code since 1992 to promote understanding and reduce complexity of the code, many designers, builders, and code officials want to improve its ease of use. The response to this need appears in the 2000 IECC as new chapter 6, “Simplified Prescriptive Requirements for Residential Buildings, Type A-1 and A-2.” As a shorter and simpler alternative to the main portion of the IECC, it applies only to a limited set of buildings and offers them fewer compliance options for insulation and fenestration.

Chapter 6 is intended to be equivalent in overall energy efficiency for those residential types it covers. In becoming shorter, however, two minor energy efficiency requirements were left out. Lighting efficiency requirements for multi-family non-dwelling areas such as laundry rooms and outdoor areas, which are mandatory in section 505.2 of the 2000 IECC, are omitted from chapter 6. The number of buildings and area of lighting affected, however, are very small and therefore the impact on energy efficiency is small as well.

Also, the new chapter fails to include the maximum air leakage rates for windows that exists in section 502.1.4.1. Since most, if not all, windows are manufactured to easily meet the leakage limits, the impact of the missing allowable leakage rates is negligible.

C. Conclusion

Most of the changes between the 1998 IECC and the 2000 IECC promote compliance with the code and help conserve energy in low-rise residential buildings. Although a few changes might cause marginal increases in energy consumption, they do not alter DOE's determination that the 2000 IECC improves energy efficiency.

IV. Filing Certification Statements with DOE

A. State Determinations

On the basis of today's DOE determinations, each State is required to determine the appropriateness of revising the portion of its residential building code regarding energy efficiency to meet or exceed the provisions of the ICC International Energy Conservation Code, 1998 edition and the 2000 edition. EPCA section 304 (a)(5)(B) and (C). If a State completes its determination on the 2000 IECC and certifies to DOE that it has done so, it does not have to do a separate determination for the 1998 IECC.

The determinations must be made not later than two years from the date of today's notice, unless an extension is provided. The State determination shall be: (1) Made after public notice and hearing; (2) in writing; (3) based upon findings and upon the evidence presented at the hearing; and (4) made available to the public. States have considerable discretion with regard to the hearing procedures they use, subject to providing an adequate opportunity for members of the public to be heard and to present relevant information. The Department recommends publication of any notice of public hearing in a newspaper of general circulation.

The Department recognizes that some States do not have a State residential code or do not have a code that applies to all residential building new construction. If local building codes rather than a State code regulate residential building design and construction, the State must determine whether it is appropriate for each of its units of general purpose local government to revise the provisions of its residential building code regarding energy efficiency to meet or exceed the 1998 IECC and 2000 IECC. States may base their determinations on reasonable preliminary determinations by units of general purpose local government. Each such State must still hold an adequate public hearing to review the information obtained from the local governments and to gather any additional data and testimony for its determination.

States should be aware that the Department considers high-rise (greater than three stories) multi-family residential buildings and hotel, motel, and other transient residential building types of any height as commercial buildings for energy code purposes. Residential buildings include one- and two-family detached and attached buildings, duplexes, townhouses, row houses, and low-rise multi-family buildings (not greater than three stories) such as condominiums and garden apartments.

States should also be aware that the determinations do not apply to Chapters 6 and 7 of the 1998 IECC and Chapters 7 and 8 of the 2000 IECC, which address commercial buildings as defined above. Therefore States must certify their evaluations of their State building codes for residential buildings with respect to all provisions of the IECC except for those chapters.

B. State Certifications to DOE

As a consequence of today's determination by DOE, Section 304(a)(5)(B) of ECPA, as amended, requires each State to certify to the Secretary of Energy that it has reviewed the provisions of its residential building code regarding energy efficiency and determined whether it is appropriate to revise the code to meet or exceed the 1998 IECC and the 2000 IECC. A certification to the 2000 IECC obviates the need for a certification to the 1998 IECC.

The certifications must be in writing and submitted within two years from the date of publication of this notice. If a State intends to certify that a residential building code already meets or exceeds the requirements of the 1998 IECC or 2000 IECC, it is appropriate for the State to explain the basis for the certification. The Department believes that it is appropriate for the chief executive of the State (the Governor) to designate a State official, such as the Director of the State energy office, State code commission, utility commission, or equivalent State agency having primary responsibility for residential building codes, to provide the certification to the Secretary. Such a designated State official could also provide the certifications regarding the codes of units of general purpose local government based on information provided by responsible local officials.

A previous DOE determination (61 FR 64727, December 6, 1996) required States to file a certification statement regarding the 1995 MEC by December 6, 1998. States that have not submitted the certification but have made substantial progress in reviewing the energy efficiency provisions of their residential building codes with respect to the 1995 MEC may wish to complete their review and submit the certification before considering the 1998 IECC and 2000 IECC.

If a State certifies to the 1998 IECC, certification to previous versions, such as the 1995 MEC, is not required. Similarly, a certification to the 2000 IECC makes certifications to the previous versions of the code unnecessary.

When submitting any certification documents in response to this notice, the Department requests that the original documents be accompanied by one copy.

C. State Determination Not To Revise Its Residential Building Code

Section 304(a)(4) of ECPA, as amended, requires that if a State makes a determination that it is not appropriate to revise the energy efficiency provisions of its residential building code, the State must submit to the Secretary, in writing, the reasons for this determination. The statement of reasons should summarize the rationale for the State's conclusion. If local building codes are applicable in the absence of a State code, the State may rely on reasons provided by the units of general purpose local government. Upon receipt of the statement of reasons, the Department will place a copy in its Freedom of Information Reading Room in the Forrestal Building in Washington, D.C., so that members of the public may inspect it.

D. Requests for Extensions To Certify

Section 304(c) of ECPA, as amended, requires that the Secretary permit an extension of the deadline for complying with the certification requirements described above, if a State can demonstrate that it has made a good faith effort to comply with such requirements and that it has made significant progress toward meeting its certification obligations. Such demonstrations could include: (1) A plan for response to the requirements stated in section 304; (2) a statement that the State has appropriated or requested funds (within State funding procedures) for a plan that would respond to the requirements of section 304; and (3) a notice of public hearing.

If a State has not met the December 6, 1998, deadline for certifying to the 1995 MEC, it should do so or file a request for extension immediately.

If a State intends to certify to the 1998 IECC or the 2000 IECC but cannot do so within two years of the date of this notice, it must file a request for extension as soon as practicable but not later than the two year deadline. Such a request should include a statement regarding the State's intentions and estimated time frame to certify.

Issued in Washington, D.C., on January 4, 2001.
Dan W. Reicher,
Assistant Secretary, Energy Efficiency and Renewable Energy.

[FR Doc. 01-742 Filed 1-9-01; 8:45 am]

BILLING CODE 6450-01-P